SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: June 1-30, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above:

Grandfathering Registration Under 18 CFR Part 806, Subpart E

1. Borough of Akron, GF Certificate No. GF-201906033, Borough of Akron, Lancaster County, Pa.; Well 1, Well 2, and the Spring; Issue Date: June 14, 2019.

2. Leola Sewer Authority, GF Certificate No. GF-201906034, Upper Leacock Township, Lancaster County, Pa.; Wells 6, 9, and 12; Issue Date: June 14, 2019.

3. Martinsburg Municipal Authority, GF Certificate No. GF-201906035, Martinsburg Borough, Blair County, Pa.; Hershberger Well; Issue Date: June 17, 2019.

Authority: Pub. L. 91-575, 84 Stat. 1509 et seq., 18 CFR parts 806 and 808.

Dated: August 1, 2019.
Jason E. Oyler,
General Counsel and Secretary to the Commission.

[FR Doc. 2019-16820 Filed 8-6-19; 8:45 am]

BILLING CODE 7040-01-P